DEPARTMENT OF ENERGY

Federal Energy Regulatory Commission

Notice of Effectiveness of Exempt Wholesale Generator and Foreign Utility Company Status

Midway Wind, LLC | EG18-49-000
Victoria City Power LLC | EG18-50-000
Victoria Port Power LLC | EG18-51-000
Meadow Lake Wind Farm VI LLC | EG18-53-000
Prairie Queen Wind Farm LLC | EG18-54-000
Turtle Creek Wind Farm LLC | EG18-55-000
Kestrel Acquisition LLC | EG18-56-000
Imperial Valley Solar 2, LLC | EG18-57-000
Delta Solar Power I, LLC | EG18-58-000
Delta Solar Power II, LLC | EG18-59-000
Walleye Energy, LLC | EG18-60-000
Pinal Central Energy Center, LLC | EG18-61-000
Trishe Wind Ohio, LLC | EG18-62-000
NRG Cottonwood Tenant LLC | EG18-63-000
SP Sandhills Solar, LLC | EG18-64-000
SP Butler Solar, LLC | EG18-65-000
SP Pawpaw Solar, LLC | EG18-66-000
SP Decatur Parkway Solar, LLC | EG18-67-000
Camilla Solar Energy LLC | EG18-68-000
NC 102 Project LLC | EG18-69-000
64KT 8ME LLC | EG18-70-000
I Squared Capital | FC18-3-000
I Squared Capital | FC18-4-000

DATES: June 8, 2018.

Take notice that during the month of May 2018, the status of the above-captioned entities as Exempt Wholesale Generators or Foreign Utility Companies became effective by operation of the Commission's regulations. 18 CFR 366.7(a) (2017).

Dated: June 8, 2018.
Kimberly D. Bose,
Secretary.

[FR Doc. 2018-12877 Filed 6-14-18; 8:45 am]

BILLING CODE 6717-01-P